DEPARTMENT OF THE TREASURY

Customs Service

[T.D. 01-92]

Cancellation of Customs Broker Licenses

AGENCY: U.S. Customs Service, Department of the Treasury.

ACTION: Customs Broker License Cancellations.

SUMMARY: Pursuant to section 641 of the Tariff Act of 1930, as amended, (19 USC 1641) and the Customs Regulations (19 CFR 111, Subpart D), the following Customs broker licenses are cancelled. Because previous publication of these records cannot be readily verified, the records are now being published to ensure Customs compliance with administrative requirements.

Name | License | Port
Harry I. Hoskins | 00193 | Seattle.
John P. Hausman | 00194 | Seattle.
Victor D. Harlow | 00200 | Seattle.

Dated: December 17, 2001.
Bonni G. Tischler,
Assistant Commissioner, Office of Field Operations.

[FR Doc. 01-31388 Filed 12-19-01; 8:45 am]

BILLING CODE 4820-02-P